FEDERAL COMMUNICATIONS COMMISSION

[MB Docket Nos. 09-182 and 07-294; DA 12-1946]

Commission Seeks Comment on Broadcast Ownership Report

AGENCY: Federal Communications Commission.

ACTION: Notice; solicitation of comments.

SUMMARY: This document solicits comment on data contained in the Media Bureau's recently released report on the ownership of commercial broadcast stations, which provides detailed information by race, ethnicity, and gender concerning ownership of commercial television, radio, Class A television, and low-power television stations.

DATES: Comments may be filed on or before December 26, 2012, and reply comments may be filed on or before January 4, 2013.

ADDRESSES: Federal Communications Commission, 445 12th Street SW., Washington, DC 20554.

FOR FURTHER INFORMATION CONTACT: Hillary DeNigro, Industry Analysis Division, Media Bureau, FCC, (202) 418-2330.

SUPPLEMENTARY INFORMATION: This is a synopsis of the Commission's Public Notice in MB Docket Nos. 09-182, 07-294, DA 12-1946, released December 3, 2012. The complete text of the document is available for inspection and copying during normal business hours in the FCC Reference Center, 445 12th Street SW., Washington, DC 20554, and may also be purchased from the Commission's copy contractor, BCPI, Inc., Portals II, 445 12th Street SW., Washington, DC 20054. Customers may contact BCPI, Inc. at their Web site http://www.bcpi.com or call 1-800-378-3160.

Synopsis of the Public Notice

1. The Public Notice offers an opportunity for additional comment on data contained in the Media Bureau's recently released report on the ownership of commercial broadcast stations (“Ownership Report”). The Ownership Report provides detailed information by race, ethnicity, and gender concerning ownership of commercial television, radio, Class A television, and low-power television stations.

2. As the Commission has long recognized, minorities and women own broadcast stations in disproportionately small numbers. This fact has been well established in our media ownership docket, including in the 2009 biennial ownership data detailed in the NPRM prior to the release of the final Ownership Report. The recently released Ownership Report confirms that minority and female ownership numbers remain low and provides more detailed ownership figures. These data are part of the record and have been considered in our current quadrennial review and, along with additional data gathered in subsequent biennial filings, will be considered in our succeeding quadrennial reviews.

3. The Ownership Report represents the latest step in the Commission's ongoing efforts to collect and publicly release minority and female ownership data. As explained in the NPRM, the Commission has sought actively in recent years to improve its collection and analysis of broadcast ownership information. These initiatives include improvements to the reliability and utility of the data reported in FCC Form 323. Although refinements to the collection and assessment of these data are ongoing, the recently released Ownership Report signifies a substantial improvement in minority and female ownership data. We anticipate going forward that these and additional ownership reports will provide useful periodic “snapshots” of minority and female ownership in the broadcast industry. We expect that our continuing efforts to reform and refine our ownership data collection will yield more and better data to support trend analyses in the future.

4. The Ownership Report was released to the public on November 14, 2012 and parties have submitted material in the record concerning the data. Several parties have requested an additional, formal opportunity to comment on the Ownership Report. Thus, while this proceeding has provided numerous opportunities for public input and participation, we will establish a further comment cycle for this limited purpose. Comments are due December 26, 2012; reply comments are due January 4, 2013.

Procedural Matters

5. Ex Parte Rules. This proceeding will be treated as “permit but disclose” for purposes of the Commission's ex parte rules.¹ As a result of the permit-but-disclose status of this proceeding, ex parte presentations will be governed by the procedures set forth in Section 1.1206 of the Commission's rules applicable to non-restricted proceedings.² Persons making ex parte presentations must file a copy of any written presentation or a memorandum summarizing any oral presentation within two business days after the presentation (unless a different deadline applicable to the Sunshine period applies).

¹ 47 CFR 1.1200, 1.1206.

² 47 CFR 1.1206.

6. Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). Written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

7. Comment Information. Pursuant to sections 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

Electronic Filers: Comments may be filed electronically using the Internet by accessing the ECFS: http://fjallfoss.fcc.gov/ecfs2/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9300 East Hampton Drive, Capitol Heights, MD 20743.

U.S. Postal Service first-class, Express, and Priority mail must be addressed to 445 12th Street SW., Washington DC 20554.

People with Disabilities: To request materials in accessible formats for people with disabilities (braille, large print, electronic files, audio format), send an email to fcc504@fcc.gov or call the Consumer & Governmental Affairs Bureau at 202-418-0530 (voice), 202-418-0432 (tty).

Federal Communications Commission.
Robert Ratcliffe,
Deputy Bureau Chief, Media Bureau.

[FR Doc. 2012-29768 Filed 12-7-12; 8:45 am]

BILLING CODE 6712-01-P